DEPARTMENT OF COMMERCE

Foreign-Trade Zones Board

[B-31-2021]

Foreign-Trade Zone (FTZ) 45—Portland, Oregon; Authorization of Production Activity; Lam Research Corporation (Semiconductor Production Equipment, Subassemblies and Related Parts), Tualatin and Sherwood, Oregon

On April 14, 2021, the Port of Portland, grantee of FTZ 45, submitted a notification of proposed production activity to the FTZ Board on behalf of Lam Research Corporation, within Subzone 45H, in Tualatin and Sherwood, Oregon.

The notification was processed in accordance with the regulations of the FTZ Board (15 CFR part 400), including notice in the Federal Register inviting public comment (86 FR 22387-22389, April 28, 2021). On August 12, 2021, the applicant was notified of the FTZ Board's decision that no further review of the activity is warranted at this time. The production activity described in the notification was authorized, subject to the FTZ Act and the FTZ Board's regulations, including Section 400.14.

Dated: August 12, 2021.
Andrew McGilvray,
Executive Secretary.

[FR Doc. 2021-17689 Filed 8-17-21; 8:45 am]

BILLING CODE 3510-DS-P